DEPARTMENT OF TRANSPORTATION

Federal Aviation Administration

14 CFR Part 39

[Docket No. FAA-2014-0003; Directorate Identifier 2013-NM-103-AD]

RIN 2120-AA64

Airworthiness Directives; Gulfstream Aerospace LP (Type Certificate Previously Held by Israel Aircraft Industries, Ltd.) Airplanes

AGENCY: Federal Aviation Administration (FAA), DOT.

ACTION: Notice of proposed rulemaking (NPRM).

SUMMARY: We propose to supersede Airworthiness Directive (AD) 2013-03-23, for all Gulfstream Aerospace LP (Type Certificate previously held by Israel Aircraft Industries, Ltd.) Model Gulfstream G150 airplanes. AD 2013-03-23 currently requires revising the airplane flight manual (AFM) to include procedures to advise the flightcrew of certain runway slope and anti-ice corrections and take-off distance values. Since we issued AD 2013-03-23, a revision to the AFM has been issued, which modifies runway slope and anti-ice corrections to both V1 and take-off distance values. This proposed AD would require revising the Performance section of the AFM, which includes the revised procedures. We are proposing this AD to prevent the use of published, non-conservative data, which could result in the inability to meet the required take-off performance, with a consequent hazard to safe operation during performance-limited take-off operations.

DATES: We must receive comments on this proposed AD by March 7, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Gulfstream Aerospace Corporation, P.O. Box 2206, Mail Station D-25, Savannah, GA 31402-2206; telephone 800-810-4853; fax 912-965-3520; email pubs@gulfstream.com; Internet http://www.gulfstream.com/product_support/technical_pubs/pubs/index.htm. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0003; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Stafford, Aerospace Engineer, International Branch, ANM-116, Transport Airplane Directorate, FAA, 1601 Lind Avenue SW., Renton, WA 98057-3356; phone: 425-227-1622; fax: 425-227-1149.

SUPPLEMENTARY INFORMATION:

Comments Invited

We invite you to send any written relevant data, views, or arguments about this proposed AD. Send your comments to an address listed under the ADDRESSES section. Include “Docket No. FAA-2014-0003; Directorate Identifier 2013-NM-103-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On February 7, 2013, we issued AD 2013-03-23, Amendment 39-17357 (78 FR 11567, February 19, 2013), for all Gulfstream Aerospace LP (Type Certificate previously held by Israel Aircraft Industries, Ltd.) Model Gulfstream G150 airplanes. AD 2013-03-23 required revising the Performance section of the AFM to include procedures to advise the flightcrew of certain runway slope and anti-ice corrections and take-off distance values.

Since we issued AD 2013-03-23, Amendment 39-17357 (78 FR 11567, February 19, 2013), Gulfstream G150 Airplane Flight Manual G150-1001-1, Revision 17, dated April 17, 2013, has been published, which modifies runway slope and anti-ice corrections to V1 and take-off distance values.

The Civil Aviation Authority of Israel (CAAI), which is the aviation authority for Israel, has issued Israeli Airworthiness Directive 01-12-02-02R1, dated April 23, 2013 (referred to after this as the Mandatory Continuing Airworthiness Information, or “the MCAI”), to correct an unsafe condition for the specified products. The MCAI states:

This AD mandates revised limitations in the G150 AFM, pertaining to the Performance Section. Each operator must incorporate Rev. 17 to the G150 AFM and remove previous AFM TR 3 dated December 14, 2012.

You may examine the MCAI in the AD docket on the Internet at http://www.regulations.gov by searching for and locating it in Docket No. FAA-2014-0003.

Relevant Service Information

Gulfstream has issued Gulfstream G150 Airplane Flight Manual G150-1001-1, Revision 17, dated April 17, 2013. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 67 airplanes of U.S. registry.

We also estimate that it would take about 1 work-hour per product to comply with the basic requirements of this proposed AD. The average labor rate is $85 per work-hour. Required parts would cost about $85 per product. Based on these figures, we estimate the cost of this proposed AD on U.S. operators to be $5,695, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2013-03-23, Amendment 39-17357 (78 FR 11567, February 19, 2013), and adding the following new AD:

Gulfstream Aerospace LP (Type Certificate Previously Held by Israel Aircraft Industries, Ltd.): Docket No. FAA-2014-0003; Directorate Identifier 2013-NM-103-AD.

(a) Comments Due Date

We must receive comments by March 7, 2014.

(b) Affected ADs

This AD supersedes AD 2013-03-23, Amendment 39-17357 (78 FR 11567, February 19, 2013).

(c) Applicability

This AD applies to Gulfstream Aerospace LP (Type Certificate previously held by Israel Aircraft Industries, Ltd.) Model Gulfstream G150 airplanes; certificated in any category; all serial numbers.

(d) Subject

Air Transport Association (ATA) of America Code 01, Operations information.

(e) Reason

This AD was prompted by a review that determined the runway slope and anti-ice corrections to both V1 and take-off distance values presented in the G150 Airplane Flight Manual (AFM) were presented in a non-conservative manner. We are issuing this AD to prevent the use of published, non-conservative data, which could result in the inability to meet the required take-off performance, with a consequent hazard to safe operation during performance-limited take-off operations.

(f) Compliance

Comply with this AD within the compliance times specified, unless already done.

(g) Retained AFM Revision

This paragraph restates the actions required by paragraph (g) of AD 2013-03-23, Amendment 39-17357 (78 FR 11567, February 19, 2013). Within 60 days after March 26, 2013 (the effective date of AD 2013-03-23, Amendment 39-17357 (78 FR 11567, February 19, 2013), revise Section V, Performance, of the Gulfstream G150 AFM to include the information in Gulfstream G150 Temporary Revision (TR) 3, dated December 14, 2011. This TR introduces corrections for runway slope. Operate the airplane according to the procedures in this TR.

Note 1 to paragraph (g) of this AD: The AFM revision required by paragraph (g) of this AD may be done by inserting copies of Gulfstream G150 TR 3, dated December 14, 2011, into the AFM. When this TR has been included in general revisions of the AFM, the general revisions may be inserted in the AFM, provided the relevant information in the general revision is identical to that in Gulfstream G150 TR 3, dated December 14, 2011; and the TR may be removed.

(h) New Revision of the AFM

Within 60 days after the effective date of this AD, revise the Gulfstream G150 Airplane Flight Manual (AFM) to incorporate the information in Section V, Performance, of the Gulfstream G150 AFM G150-1001-1, Revision 17, dated April 17, 2013. This revision contains revisions of runway slope and anti-ice corrections to the V1 and take-off distance values. Before further flight, after accomplishing the revision, remove Gulfstream G150 TR 3, dated December 14, 2011. Operate the airplane according to the procedures in Section V, Performance, of Gulfstream G150 AFM G150-1001-1, Revision 17, dated April 17, 2013. Revising the AFM to Gulfstream G150 AFM G150-1001-1, Revision 17, dated April 17, 2013, terminates the action required by paragraph (g) of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Stafford, Aerospace Engineer, International Branch, ANM-116, Transport Airplane Directorate, FAA, 1601 Lind Avenue SW., Renton, WA 98057-3356; telephone 425-227-1622; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA approved. Corrective actions are considered FAA-approved if they were approved by the State of Design Authority (or its delegated agent, or the Design Approval Holder with a State of Design Authority's design organization approval, as applicable). For a repair method to be approved, the repair approval must specifically refer to this AD. You are required to ensure the product is airworthy before it is returned to service.

(j) Special Flight Permits

Special flight permits, as described in Section 21.197 and Section 21.199 of the Federal Aviation Regulations (14 CFR 21.197 and 21.199), are not allowed.

(k) Related Information

(1) Refer to Mandatory Continuing Airworthiness Information (MCAI) Israel Airworthiness Directive 01-12-02-02-R1, dated April 23, 2013, for related information. This MCAI may be found in the AD docket on the Internet at http://www.regulations.gov by searching for and locating Docket No. FAA-2014-0003.

(2) For service information identified in this AD, contact Gulfstream Aerospace Corporation, P.O. Box 2206, Mail Station D-25, Savannah, GA 31402-2206; telephone 800-810-4853; fax 912-965-3520; email pubs@gulfstream.com; Internet http://www.gulfstream.com/product_support/technical_pubs/pubs/index.htm. You may view this referenced service information at the FAA, Transport Airplane Directorate, 1601 Lind Avenue SW., Renton, WA. For information on the availability of this material at the FAA, call 425-227-1221.

Issued in Renton, Washington, on January 10, 2014.
Jeffrey E. Duven,
Manager, Transport Airplane Directorate, Aircraft Certification Service.

[FR Doc. 2014-01015 Filed 1-17-14; 8:45 am]

BILLING CODE 4910-13-P